Executive Order 14243 of March 20, 2025

Stopping Waste, Fraud, and Abuse by Eliminating Information Silos

By the authority vested in me as President by the Constitution and the laws of the United States of America, it is hereby ordered:

Section 1. Purpose. Purpose. Removing unnecessary barriers to Federal employees accessing Government data and promoting inter-agency data sharing are important steps toward eliminating bureaucratic duplication and inefficiency while enhancing the Government's ability to detect overpayments and fraud.

Sec. 2. Definitions. (a) “Agency” has the meaning given to it in section 3502 of title 44, United States Code, except that such term does not include the Executive Office of the President or any components thereof.

(b) “Agency Head” means the highest-ranking official of an agency, such as the Secretary, Administrator, or Director. With respect to multimember agencies, “Agency Head” means the Chairman or equivalent official.

Sec. 3. Eliminating Information Silos. (a) Agency Heads shall take all necessary steps, to the maximum extent consistent with law, to ensure Federal officials designated by the President or Agency Heads (or their designees) have full and prompt access to all unclassified agency records, data, software systems, and information technology systems—or their equivalents if providing access to an equivalent dataset does not delay access—for purposes of pursuing Administration priorities related to the identification and elimination of waste, fraud, and abuse. This includes authorizing and facilitating both the intra- and inter-agency sharing and consolidation of unclassified agency records.

(b) Within 30 days of the date of this order, Agency Heads shall, to the maximum extent consistent with law, rescind or modify all agency guidance that serves as a barrier to the inter- or intra-agency sharing of unclassified information specified in subsection (a) of this section. Agency Heads shall also review agency regulations governing unclassified data access, including system of records notices, and, within 30 days of the date of this order, submit a report to the Office of Management and Budget cataloging those regulations and recommending whether any should be eliminated or modified to achieve the goals set forth in this order. Regulatory modifications pursuant to this order are exempt from Executive Order 14192.

(c) Immediately upon execution of this order, Agency Heads shall take all necessary steps, to the maximum extent consistent with law, to ensure the Federal Government has unfettered access to comprehensive data from all State programs that receive Federal funding, including, as appropriate, data generated by those programs but maintained in third-party databases.

(d) Immediately upon execution of this order and without limiting the above directives, the Secretary of Labor and the Secretary's designees shall receive, to the maximum extent consistent with law, unfettered access to all unemployment data and related payment records, including all such data and records currently available to the Department of Labor's Office of Inspector General.

(e) This order supersedes any prior Executive Orders and rules or regulations subject to direct Presidential rulemaking authority to the extent they serve as a barrier to the inter- or intra-agency sharing of unclassified information as specified in this order.

(f) Agency Heads shall conduct a review of classified information policies to determine whether they result in the classification of materials beyond what is necessary to protect critical national security interests and, within 45 days of the date of this order, submit a report to the Office of Management and Budget cataloguing those classified information policies and recommending whether any should be eliminated or modified to achieve the goals set forth in this order.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

Washington, March 20, 2025.

[FR Doc. 2025-05214

Filed 3-24-25; 8:45 am]

Billing code 3395-F4-P